DEPARTMENT OF THE INTERIOR

Bureau of Land Management

[OR-027-1020-PI-020H; G-05-0165]

Notice of Public Meeting, Steens Mountain Advisory Council

AGENCY: Department of the Interior, Bureau of Land Management, Burns District Office.

ACTION: Notice of Public Meeting for the Steens Mountain Advisory Council.

SUMMARY: In accordance with the Steens Mountain Cooperative Management and Protection Act (Steens Act) of 2000, Public Law 106-399, the Federal Land Policy and Management Act of 1976, and the Federal Advisory Committee Act of 1972, the U.S. Department of the Interior, Bureau of Land Management, and the Steens Mountain Advisory Council will meet as indicated below.

DATES: The Steens Mountain Advisory Council will meet at the Bureau of Land Management, Burns District Office, 28910 Hwy 20 West, Hines, Oregon, 97738 on August 11 and 12, 2005. Both days will begin at 8 a.m., local time, and will end at approximately 4:30 p.m., local time.

SUPPLEMENTARY INFORMATION: The Steens Mountain Advisory Council was appointed by the Secretary of the Interior on August 14, 2001, pursuant to the Steens Act and re-chartered in August 2003. The Steens Mountain Advisory Council's purpose is to provide representative counsel and advice to the Bureau of Land Management regarding (1) new and unique approaches to management of the land within the bounds of the Steens Mountain Cooperative Management and Protection Area, (2) cooperative programs and incentives for landscape management that meet human needs, maintain and improve the ecological and economic integrity of the area, and (3) preparation and implementation of a management plan for the Steens Mountain Cooperative Management and Protection Area.

Topics to be discussed at this meeting include operating protocols, challenges and opportunities for collaboration, visioning, roles of the Steens Mountain Advisory Council and the Bureau of Land Management, ground rules, dispute resolution, and other matters that may reasonably come before the Steens Mountain Advisory Council.

The Steens Mountain Advisory Council meeting is open to the public. Information to be distributed to the Steens Mountain Advisory Council is requested prior to the start of the meeting. Public comment periods will be scheduled for 11 a.m. to 11:30 a.m., local time, both days. The amount of time scheduled for public presentations and meeting times may be extended when the authorized representative considers it necessary to accommodate all persons.

FOR FURTHER INFORMATION CONTACT: Additional information concerning the Steens Mountain Advisory Council may be obtained from Rhonda Karges, Management Support Specialist, Bureau of Land Management Burns District Office, 28910 Hwy 20 West, Hines, Oregon 97738. Information can also be obtained by phone at (541) 573-4400, by e-mail at Rhonda_Karges@or.blm.gov, or from the Internet at: http://www.or.blm.gov/Steens.

Dated: July 6, 2005.
Karla Bird,
Designated Federal Official, Andrews Resource Area Field Manager.

[FR Doc. 05-13621 Filed 7-11-05; 8:45 am]

BILLING CODE 4310-33-P